DEPARTMENT OF COMMERCE

National Oceanic and Atmospheric Administration

RIN: 0648-XS48

New England Fishery Management Council; Public Meeting

AGENCY: National Marine Fisheries Service (NMFS), National Oceanic and Atmospheric Administration (NOAA), Commerce.

ACTION: Notice of a public meeting.

SUMMARY: The New England Fishery Management Council's (Council) Groundfish Committee will meet to consider actions affecting New England fisheries in the exclusive economic zone (EEZ).

DATES: The meeting will be held on November 5, 2009, at 9 a.m.

ADDRESSES: The meeting will be held at the Sheraton Ferncroft Hotel, 50 Ferncroft Road, Danvers, MA 01923; telephone: (978) 777-2500; fax: (978) 750-7991.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Committee will continue development of Framework 44 to the Northeast Multispecies Fishery Management Plan (FMP). Framework 44 will adopt fishery specifications and annual catch limits for groundfish stocks, and adjust measures as necessary to continue rebuilding of overfished groundfish stocks. At this meeting, the Committee will review Annual Catch Limits (ACLs) for FY 2010-12 and will consider changes in effort control measures for the common pool (non-sector) commercial fishery. Such changes may include modifications to trip limits or differential days-at-sea counting. Other business may also be discussed. The Committee's recommendations will be delivered to the full Council at its meeting in Newport, RI on November 17-19, 2009.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: October 15, 2009.
Tracey L. Thompson,
Acting Director, Office of Sustainable Fisheries, National Marine Fisheries Service.

[FR Doc. E9-25131 Filed 10-19-09; 8:45 am]

BILLING CODE 3510-22-S